SECURITIES AND EXCHANGE COMMISSION

17 CFR PART 240

[Release No. 34-44845; File No. S7-14-01]

RIN 3235-AI23

Request for Comment on the Effects of Decimal Trading in Subpennies; Extension of Comment Period

AGENCY: Securities and Exchange Commission.

ACTION: Concept release; extension of comment period.

SUMMARY: The Securities and Exchange Commission (“Commission”) published in the Federal Register on July 24, 2001 (66 FR 38390) a concept release seeking comment on the impact on fair and orderly markets and investor protection of trading and potentially quoting securities in an increment of less than a penny. The original comment period ended September 24, 2001. The new deadline for submitting public comments is November 23, 2001.

DATES: Comments must be received on or before November 23, 2001.

ADDRESSES: Persons wishing to submit written comments should send three copies to Jonathan G. Katz, Secretary, Securities and Exchange Commission, 450 Fifth Street, NW., Washington, DC 20549-0609. Comments also may be submitted electronically at the following E-mail address: rule-comments@sec.gov. All comment letters should refer to File No. S7-14-01. Comments submitted by E-mail should include this file number in the subject line. Comment letters received will be available for public inspection and copying in the Commission's Public Reference Room, 450 Fifth Street, NW., Washington, DC 20549. Electronically submitted comment letters will be posted on the Commission's Internet web site (http://www.sec.gov).¹

¹ Personal identifying information, such as names or e-mail addresses, will not be edited from electronic submission. Submit only information that you wish to make publicly available.

FOR FURTHER INFORMATION CONTACT: Any of the following attorneys in the Division of Market Regulation, Securities and Exchange Commission, 450 Fifth Street, NW., Washington, DC 20549-1001: James Brigagliano, Jo Anne Swindler, Gregory Dumark, or Kevin Campion at (202) 942-0772; Alton Harvey, Patrick Joyce, or John Roeser at (202) 942-0154.

SUPPLEMENTARY INFORMATION: On July 24, 2001, the Commission published in the Federal Register a concept release seeking comment on the effects of subpenny prices on market transparency, on the operation and effectiveness of Commission and self-regulatory organizations rules that are dependent on trading or quoting price differentials, and on automated systems.² The deadline for submitting public comments established by the concept release was September 24, 2001. In view of the market disruption caused by the attacks of September 11, 2001, and in response to requests from commenters for more time to address the issues raised in the concept release, the Commission believes that it is appropriate to extend the comment period to November 23, 2001.³

² Securities Exchange Act Release No. 44568 (July 17, 2001), 66 FR 38390 (July 24, 2001).

³ Commenters may wish to review the reports on decimal implementation recently filed with the Commission by the Exchanges and the NASD, which provide some data and discussion of subpenny market activity. The reports are in File No. 4-430.

By the Commission.
Dated: September 25, 2001.
Margaret H. McFarland,
Deputy Secretary.

[FR Doc. 01-24470 Filed 9-28-01; 8:45 am]

BILLING CODE 8020-01-P